DEPARTMENT OF STATE

[Public Notice 8593]

Presidential Determination Relating to Iran Sanctions

AGENCY: Department of State.

This notice is to inform the public that the President of the United States determined, on November 29, 2013, pursuant to Section 1245(d)(4)(B) and (C) of the National Defense Authorization Act for Fiscal Year 2012, Public Law 112-81, and consistent with his prior determinations, that there is a sufficient supply of petroleum and petroleum products from countries other than Iran to permit a significant reduction in the volume of petroleum and petroleum products purchased from Iran by or through foreign financial institutions.

FOR FURTHER INFORMATION CONTACT: Carlos Pascual, Special Envoy and Coordinator, Bureau of Energy Resources, (202) 647-8543.

Carlos Pascual,
Bureau of Energy Resources, Department of State.

[FR Doc. 2014-00626 Filed 1-14-14; 8:45 am]

BILLING CODE 4710-02-P